DEPARTMENT OF ENERGY

Federal Energy Regulatory Commission

[Docket No. CP12-516-000]

Discovery Gas Transmission LLC; Notice of Application

Take notice that on September 7, 2012, Discovery Gas Transmission LLC (Discovery), 2800 Post Oak Boulevard, Houston, Texas 77056, filed in Docket No. CP12-516-000 an application pursuant to section 7 of the Natural Gas Act and Part 157 the Commission's Rules and Regulations for all the necessary authorizations required to construct, own and operate its Junction Platform Project (Project) in the Gulf of Mexico offshore Louisiana, all as more fully set forth in the application which is on file with the Commission and open to public inspection.

Discovery proposes construction and operation of a new junction platform located in South Timbalier Area (ST) Block 283; construction and operation of approximately 10 miles of 30-inch pipeline connecting the new platform to a subsea interconnect with Discovery's existing 30-inch mainline in Ewing Banks Area Block 873; construction and operation of approximately 10 miles of 12-inch pipeline connecting the new platform to Sea Robin Pipeline Company, LLC's offshore pipeline system in ST Block 280; and appurtenant facilities on the new platform to provide pigging and other necessary functions to enhance efficient operations. The estimated cost of the Project is approximately $126 million.

Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Questions regarding this application should be directed to Larry Jensen, 2800 Post Oak Boulevard, Houston, Texas 77056, telephone (713) 215-3034.

Discovery has requested that the Commission issue a final order in this proceeding by January 31, 2013, to enable Discovery to commence construction of the proposed facilities to meet a July 1, 2014 in-service date. As Discovery's proposed facilities entirely in the federal waters of the Gulf of Mexico, the Project facilities will qualify for categorical exclusions in accordance with 18 CFR 380.(4)(a)(33) and 18 CFR 380.4(a)(34) which state “* * * neither an environmental assessment nor an environmental impact statement shall be prepared for the following projects or actions: * * * (33) construction or abandonment of facilities constructed entirely in Federal offshore waters that has been approved by the Mineral Management Service and the Corps of Engineers, as necessary; (34) Abandonment or construction facilities on an existing offshore platform.” Thus the application must be approved by the Bureau of Safety and Environmental Enforcement of the U.S. Department of the Interior, successor to the Mineral Management Service for this approval function, prior to the project being considered by the Commission as eligible for a categorical exclusion classification under the Commission's environmental review process.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link. Persons unable to file electronically should submit an original and 14 copies of the protest or intervention to the Federal Energy regulatory Commission, 888 First Street NE., Washington, DC 20426.

Comment Date: 5 p.m. Eastern Time on October 5, 2012.

Dated: September 14, 2012.
Kimberly D. Bose,
Secretary.

[FR Doc. 2012-23226 Filed 9-19-12; 8:45 am]

BILLING CODE 6717-01-P